NATIONAL AERONAUTICS AND SPACE ADMINISTRATION

[Notice (03-157)]

NASA Advisory Council, Planetary Protection Advisory Committee; Meeting

AGENCY: National Aeronautics and Space Administration.

ACTION: Notice of meeting.

SUMMARY: In accordance with the Federal Advisory Committee Act, Public Law 92-463, as amended, the National Aeronautics and Space Administration announces a forthcoming meeting of the NASA Advisory Council (NAC), Planetary Protection Advisory Committee (PPAC).

DATES: Monday, January 12, 2004, 8:30 a.m. to 5:15 p.m., Tuesday, January 13, 2004, 8:30 a.m. to 5 p.m.

ADDRESSES: NASA Jet Propulsion Laboratory, Building 167, 4800 Oak Grove Drive, Pasadena, CA 91103.

FOR FURTHER INFORMATION CONTACT: Ms. Marian Norris, Code SB, National Aeronautics and Space Administration, Washington, DC 20546, 202/358-4452, e-mail mnorris@nasa.gov.

SUPPLEMENTARY INFORMATION: The meeting will be open to the public up to the capacity of the room. The agenda for the meeting includes the following topics:

—Planetary Protection Program Update

—Planetary Protection Status of Current and Planned Mars Missions

—Concepts for Returned Mars Sample Handling

—Solar System Exploration Program Status

—Planetary Protection Status of Current and Planned Solar System Exploration Missions

Due to increased security measures at the NASA Jet Propulsion Laboratory (JPL), interested members of the public including the news media must contact Cecil Brower, (818) 354-6974, no later than Monday, January 5, 2004, to make arrangements for badging, parking, and being escorted while at JPL. Access to JPL will be limited to those who show proper photo identification and who have made prior arrangements to attend.

It is imperative that the meeting be held on these dates to accommodate the scheduling priorities of the key participants. Visitors will be requested to sign a visitor's register.

Michael F. O'Brien,
Assistant Administrator for External Relations, National Aeronautics and Space Administration.

[FR Doc. 03-31903 Filed 12-24-03; 8:45 am]

BILLING CODE 7510-01-P